BROADCASTING BOARD OF GOVERNORS

Sunshine Act Meeting

DATE AND TIME: December 12, 2000; 8:30 a.m.-4 p.m.

PLACE: Cohen Building, Room 3321, 330 Independence Ave., SW., Washington, DC 20237.

Closed Meeting

The members of the Broadcasting Board of Governors (BBG) will meet in closed session to review and discuss a number of issues relating to U.S. Government-funded non-military international broadcasting. They will address internal procedural, budgetary, and personnel issues, as well as sensitive foreign policy issues relating to potential options in the U.S. international broadcasting field. This meeting is closed because if open it likely would either disclose matters that would be properly classified to be kept secret in the interest of foreign policy under the appropriate executive order (5 U.S.C. 552b.(c)(1)) or would disclose information the premature disclosure of which would be likely to significantly frustrate implementation of a proposed agency action. (5 U.S.C. 552b.(c)(9)(B)) In addition, part of the discussion will relate solely to the internal personnel and organizational issues of the BBG or the International Broadcasting Bureau. (5 U.S.C. 552b.(c)(2) and (6)).

CONTACT PERSON FOR MORE INFORMATION: Persons interested in obtaining more information should contact either Brenda Hardnett or Carol Booker at (202) 401-3736.

Dated: December 1, 2000.
Carol Booker,
Legal Counsel.

Certification

Based on the information provided to me, the meeting scheduled by the Broadcasting Board of Governors for December 12, 2000, may be closed to the public pursuant to sections (c)(1), (2), (6), and 9(B) of the Government in the Sunshine Act (5 U.S.C. 552b.).

Issues qualifying for closure of the meeting will be inextricably intertwined with issues which do not so qualify. During the course of the meeting there will be discussions relating to foreign policy options (c)(1), internal BBG or IBB personnel, budgetary, and organizational matters (c)(2), the performance or selection of personnel (c)(6), and options for negotiations or other sensitive discussions within the U.S. or abroad. (c)(9)(B).

Carol Booker,
BBG Legal Counsel.

[FR Doc. 00-31031 Filed 12-1-00; 2:29 pm]

BILLING CODE 8230-01-M